UNITED STATES DEPARTMENT OF THE TREASURY

Office of Foreign Assets Control

Unblocking of Specially Designated Nationals and Blocked Persons Pursuant to Executive Order 12978

AGENCY: Office of Foreign Assets Control, Treasury.

ACTION: Notice.

SUMMARY: The Department of the Treasury's Office of Foreign Assets Control (“OFAC”) is publishing the names of two individuals and 12 entities whose property and interests in property have been unblocked pursuant to Executive Order 12978 of October 21, 1995, “Blocking Assets and Prohibiting Transactions With Significant Narcotics Traffickers”. In addition, OFAC is publishing an amendment to the identifying information of two individuals previously designated pursuant to Executive Order 12978.

DATES: The unblocking and removal from the list of Specially Designated Nationals and Blocked Persons (“SDN List”) of two individuals and 12 entities identified in this notice whose property and interests in property were blocked pursuant to Executive Order 12978 of October 21, 1995, is effective on April 24, 2014. Also effective on April 24, 2014 is the amendment to the identifying information of two individuals previously designated pursuant to Executive Order 12978.

FOR FURTHER INFORMATION CONTACT: Assistant Director, Sanctions Compliance & Evaluation, Department of the Treasury, Office of Foreign Assets Control, Washington, DC 20220, Tel: (202) 622-2490.

SUPPLEMENTARY INFORMATION:

Electronic and Facsimile Availability

This document and additional information concerning OFAC are available from OFAC's Web site (www.treasury.gov/ofac) or via facsimile through a 24-hour fax-on demand service at (202) 622-0077.

Background

On October 21, 1995, the President, invoking the authority, inter alia, of the International Emergency Economic Powers Act (50 U.S.C. §§ 1701-1706) (“IEEPA”), issued Executive Order 12978 (60 Fed. Reg. 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The foreign persons listed in an Annex to the Order; (2) any foreign person determined by the Secretary of Treasury, in consultation with the Attorney General and the Secretary of State: (a) to play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On April 24, 2014, the Director of OFAC removed from the SDN List the two individuals and 12 entities listed below, whose property and interests in property were blocked pursuant to the Order:

Individuals

1. DOUGHERTY MONROY, Jose Rodrigo, 5ta Calle 3-56, Zona 14, Colonia El Campo, Guatemala City, Guatemala; DOB 08 May 1971; POB Guatemala; Passport 008130004 (Guatemala) (individual) [SDNT].

2. MOR SAAB, Jaime Dib (a.k.a. MOR, Jaime Div; a.k.a. “JAIME MOORE”), c/o DURATEX S.A., Bogota, Colombia; c/o MOR ALFOMBRAS ALFOFIQUE S.A., Bogota, Colombia; c/o MOR GAVIRIA Y CIA. S.C.S., Bogota, Colombia; c/o INVERSIONES MPS S.A., Bogota, Colombia; c/o MAYOR COMERCIALIZADORA LTDA., Bogota, Colombia; c/o PROYECTOS Y SOLUCIONES S.A., Bogota, Colombia; c/o GERENCIA DE PROYECTOS Y SOLUCIONES LTDA., Bogota, Colombia; c/o PROMOCIONES E INVERSIONES LAS PALMAS S.A., Bogota, Colombia; c/o ACUICOLA SANTA CATALINA S.A., Bogota, Colombia; c/o SUPER BOYS GAMES LTDA., Bogota, Colombia; c/o KARIAN LTDA., Bogota, Colombia; c/o GAVIRIA MOR Y CIA. LTDA., Girardot, Colombia; c/o CONSTRUCTORA IRAKA S.A., Bogota, Colombia; c/o CONSTRUCTORA AMERICA S.A., Bogota, Colombia; c/o COMERCIALIZADORA MOR GAVIRIA S.A., Quito, Ecuador; c/o COMERCIALIZADORA MORDUR S.A., Quito, Ecuador; c/o INTERNACIONAL DE PROYECTOS INMOBILIARIOS IPI S.A., Quito, Ecuador; c/o MIRASOL INTERNATIONAL LIMITED, Road Town, Tortola, Virgin Islands, British; c/o SHARDAE VENTURES INC., Road Town, Tortola, Virgin Islands, British; c/o KELVEDON LIMITED, Georgetown, Grand Cayman, Cayman Islands; c/o PARQUE ECOLOGICO RECREACIONAL DE LAS AGUAS DE GIRARDOT LIMITADA, Girardot, Colombia; DOB 29 Apr 1955; POB Girardot, Cundinamarca, Colombia; Cedula No. 19222380 (Colombia); SSN 591-98-9689 (United States) (individual) [SDNT].

Entities

1. ACUICOLA SANTA CATALINA S.A., Avenida 13 No. 100-12 Ofc. 302, Bogota, Colombia; NIT # 830010809-5 (Colombia) [SDNT].

2. DURATEX S.A. (f.k.a. INVERSIONES JEDA S.A.), Carrera 63 No. 17-07, Bogota, Colombia; Calle 116 No. 19-22, Bogota, Colombia; Avenida 19 No. 95-13 Local 1, Bogota, Colombia; NIT # 800054668-3 (Colombia) [SDNT].

3. KARIAN LTDA., Calle 23 No. 68A-95, Bogota, Colombia; NIT # 800166692-1 (Colombia) [SDNT].

4. KELVEDON LIMITED, 1446 West Bay Road, Georgetown, Grand Cayman, Cayman Islands [SDNT].

5. MAYOR COMERCIALIZADORA LTDA., Carrera 40 No. 169-30 Barrio Toberin, Bogota, Colombia; NIT # 800088288-4 (Colombia) [SDNT].

6. MIRASOL INTERNATIONAL LIMITED, Road Town, Tortola, Virgin Islands, British [SDNT].

7. MOR GAVIRIA Y CIA. S.C.S. SOCIEDAD DE COMERCIALIZACION INT C.I. (f.k.a. MOR GAVIRIA Y CIA. S.C.S.), Carrera 63 No. 17-07, Bogota, Colombia; NIT # 860535567-0 (Colombia) [SDNT].

8. PARQUE ECOLOGICO RECREACIONAL DE LAS AGUAS DE GIRARDOT LIMITADA, Carrera 19 No. 28-200 Barrio Gaitan, Girardot, Colombia; NIT # 900034947-0 (Colombia) [SDNT].

9. PROMOCIONES E INVERSIONES LAS PALMAS S.A. (a.k.a. PROPALMAS S.A.), Carrera 9 No. 100-97 Ofc. 412, Bogota, Colombia; NIT # 800236023-5 (Colombia) [SDNT].

10. PROYECTOS Y SOLUCIONES S.A., Carrera 63 No. 17-07, Bogota, Colombia; NIT # 800231601-1 (Colombia) [SDNT].

11. SHARDAE VENTURES INC., Road Town, Tortola, Virgin Islands, British; Carrera 63 No. 17-07, Bogota, Colombia [SDNT].

12. SUPER BOYS GAMES LTDA., Carrera 40 No. 168-67, Bogota, Colombia; NIT # 830004047-5 (Colombia) [SDNT].

In addition, OFAC has amended the identifying information for the following two individuals previously designated pursuant to Executive Order 12978:

1. CAICEDO ROJAS, Jorge Ernesto, Calle 82 No 11-37 Ofc. 504, Bogota, Colombia; c/o PROMOCIONES E INVERSIONES LAS PALMAS S.A., Bogota, Colombia; c/o HOTEL LA CASCADA S.A., Girardot, Colombia; DOB 21 Oct 1955; POB Bogota, Colombia; Cedula No. 3227987 (Colombia) (individual) [SDNT].

2. MALDONADO ESCOBAR, Fernando, c/o AUDITORES ESPECIALIZADOS LTDA., Bogota, Colombia; c/o MOR GAVIRIA Y CIA. S.C.S., Bogota, Colombia; c/o PROMOCIONES E INVERSIONES LAS PALMAS S.A., Bogota, Colombia; c/o GAVIRIA MOR Y CIA. LTDA., Girardot, Colombia; c/o AQUAMARINA ISLAND INTERNATIONAL CORPORATION, Panama City, Panama; DOB 16 May 1961; POB Bogota, Colombia; Cedula No. 19445721 (Colombia); Passport AH330349 (Colombia) (individual) [SDNT].

The listing for each of these individuals now appears as follows:

1. CAICEDO ROJAS, Jorge Ernesto, Calle 82 No 11-37 Ofc. 504, Bogota, Colombia; DOB 21 Oct 1955; POB Bogota, Colombia; Cedula No. 3227987 (Colombia) (individual) [SDNT] (Linked To: HOTEL LA CASCADA S.A.).

2. MALDONADO ESCOBAR, Fernando; DOB 16 May 1961; POB Bogota, Colombia; Cedula No. 19445721 (Colombia); Passport AH330349 (Colombia) (individual) [SDNT] (Linked To: AUDITORES ESPECIALIZADOS LTDA.; Linked To: GAVIRIA MOR Y CIA. LTDA.; Linked To: AQUAMARINA ISLAND INTERNATIONAL CORPORATION).

Dated: April 24, 2014.
Adam J. Szubin,
Director, Office of Foreign Assets Control.

[FR Doc. 2014-09841 Filed 4-29-14; 8:45 am]

BILLING CODE 4810-AL-P